DEPARTMENT OF ENERGY

Federal Energy Regulatory Commission

[Project No. 15380-000]

Robertson Power Company, LLC; Notice Extending Comment Period

On October 31, 2024, Robertson Power Company, LLC, filed an application for a preliminary permit, pursuant to section 4(f) of the Federal Power Act (FPA), proposing to study the feasibility of the Somersworth Mill Hydroelectric Project No. 15380-000 (project), to be located at the Somersworth Mill dam on the Salmon Falls River near the Town of Somersworth in Strafford County, New Hampshire, and Berwick, York County, Maine.

On October 15, 2025, the Commission issued public notice of the application and established December 15, 2025, as the deadline for filing comments, interventions, and competing applications. However, the Commission's October 15, 2025 notice was inadvertently not distributed to all parties required to be notified pursuant to the Commission's regulations [18 CFR 4.32(a)(2)]. Therefore, we are extending the deadline for filing comments, interventions, and competing applications until on or before 5:00 p.m. Eastern Time on January 5, 2026.

More information about this project, including a copy of the application and a copy of the Commission's October 25, 2025 notice, can be viewed on the Commission's website (http://www.ferc.gov) using the “eLibrary” link. Enter the docket number excluding the last three digits (P-15380) in the docket number field to access the document. For assistance, contact FERC Online Support.

For public inquiries and assistance with making filings such as interventions, comments, or requests for rehearing, contact the Office of Public Participation (OPP) at (202) 502-6595 or OPP@ferc.gov.

Dated: November 7, 2025.
Debbie-Anne A. Reese,
Secretary.

[FR Doc. 2025-20923 Filed 11-24-25; 8:45 am]

BILLING CODE 6717-01-P